UNITED STATES INSTITUTE OF PEACE

Notice of Meeting; United States Institute of Peace

AGENCY: United States Institute of Peace.

DATE/TIME: Friday, February 10, 2017 (10:00 a.m.-1:45 p.m.)

LOCATION: 2301 Constitution Avenue NW., Washington, DC 20037.

STATUS: Open Session—Portions may be closed pursuant to Subsection (c) of Section 552(b) of Title 5, United States Code, as provided in subsection 1706(h)(3) of the United States Institute of Peace Act, Public Law 98-525.

AGENDA: February 10, 2017 Board Meeting; Approval of Minutes of the One Hundred Sixtieth Meeting (October 21, 2016) of the Board of Directors; Chairman's Report; Vice Chairman's Report; President's Report; Reports from USIP Board Committees; Stoplight Presentation; Overview of Africa Projects and Programs; PeaceTech Lab Bi-Annual Update.

CONTACT: Nick Rogacki, Special Assistant to the President, Email: nrogacki@usip.org.

Dated: January 24, 2017.
Nicholas Rogacki,
Special Assistant to the President.

[FR Doc. 2017-01981 Filed 1-27-17; 8:45 am]

BILLING CODE 6820-AR-P